DEPARTMENT OF HOMELAND SECURITY

Federal Emergency Management Agency

[Docket ID FEMA-2022-0002; Internal Agency Docket No. FEMA-B-2271]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before January 4, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2271, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

Community | Community map repository address
Cumberland County, Maine (All Jurisdictions)
Project: 12-01-1059S Preliminary Date: March 08, 2022
City of Portland | City Hall, 389 Congress Street, Portland, ME 04101.
City of South Portland | Planning and Development Department, 829 Sawyer Street, South Portland, ME 04106.
Town of Cape Elizabeth | Town Hall, 320 Ocean House Road, Cape Elizabeth, ME 04107.
York County, Maine (All Jurisdictions)
Project: 12-01-1061S Preliminary Date: March 08, 2022
City of Biddeford | City Hall, 205 Main Street, Biddeford, ME 04005.
City of Saco | City Hall, 300 Main Street, Saco, ME 04072.
Town of Old Orchard Beach | Town Hall, 1 Portland Avenue, Old Orchard Beach, ME 04064.
Chesterfield County, Virginia (All Jurisdictions)
Project: 16-03-2426S Preliminary Date: June 30, 2022
Unincorporated Areas of Chesterfield County | Chesterfield County Community Development Building, 9800 Government Center Parkway, Chesterfield, VA 23832.
City of Alexandria, Virginia (Independent City)
Project: 14-03-3327S Preliminary Date: May 31, 2022
City of Alexandria | City Hall, 301 King Street, Alexandria, VA 22314.
City of Colonial Heights, Virginia (Independent City)
Project: 16-03-2426S Preliminary Date: May 31, 2022
City of Colonial Heights | Department of Planning and Community Development, 201 James Avenue, Colonial Heights, VA 23834.
Pulaski County, Virginia and Incorporated Areas
Project: 18-03-0014S Preliminary Date: May 15, 2022
Town of Pulaski | Municipal Building, 42 1st Street Northwest, Pulaski, VA 24301.
Unincorporated Areas of Pulaski County | Pulaski County Administration Building, 143 3rd Street Northwest, Suite 1, Pulaski, VA 24301.
Shawano County, Wisconsin and Incorporated Areas
Project: 18-05-0011S Preliminary Date: January 10, 2022
City of Shawano | City Hall, 127 South Sawyer Street, Shawano, WI 54166.
Ho-Chunk Nation of Wisconsin | Tribal Office Building, W9814 Airport Road, Black River Falls, WI 54615.
Menominee Indian Tribe of Wisconsin | Tribal Office Building, W2908 Tribal Office Loop Road, Keshena, WI 54135.
Stockbridge Munsee Tribal Community | Tribal Office Building, N8476 MohHeConNuck Road, Bowler, WI 54416.
Unincorporated Areas of Shawano County | Shawano County Courthouse, 311 North Main Street, Shawano, WI 54166.
Village of Birnamwood | Village Hall, 362 Railroad Street, Birnamwood, WI 54414.
Village of Bonduel | Village Hall, 117 West Green Bay Street, Bonduel, WI 54107.
Village of Bowler | Village Hall, 107 West Main Street, Bowler, WI 54416.
Village of Cecil | Village Hall, 111 East Hofman Street, Cecil, WI 54111.
Village of Eland | Village Hall, W19141 Maple Street, Eland, WI 54427.
Village of Gresham | Village Hall, 1126 Main Street, Gresham, WI 54128.
Village of Mattoon | Village Hall, 310 Slate Avenue, Mattoon, WI 54450.
Village of Tigerton | Village Hall, 221 Birch Street, Tigerton, WI 54486.
Village of Wittenberg | Village Hall, 208 West Vinal Street, Wittenberg, WI 54499.

[FR Doc. 2022-21665 Filed 10-5-22; 8:45 am]

BILLING CODE 9110-12-P